DEPARTMENT OF COMMERCE

International Trade Administration

[A-580-810]

Certain Welded ASTM A-312 Stainless Steel Pipe From the Republic of Korea; Rescission of Antidumping Duty Administrative Review

AGENCY: Import Administration, International Trade Administration, Department of Commerce.

ACTION: Notice of Rescission of Antidumping Duty Administrative Review.

SUMMARY: On January 26, 2000, the Department of Commerce (the Department) initiated an administrative review of the antidumping duty order on certain welded ASTM A-312 stainless steel pipe (WSSP) from Korea (65 FR 4228). The Department initiated this review at the request of respondent, SeAH Steel Corporation, Ltd. (SeAH). The review covers one manufacturer, SeAH. The period of review is December 1, 1998 through November 30, 1999. On January 31, 2000, SeAH withdrew its request for a review. The Department has received no additional submissions from any party concerning this review. We are rescinding this review.

EFFECTIVE DATE: August 10, 2000.

FOR FURTHER INFORMATION CONTACT: Mark Hoadley, Import Administration, International Trade Administration, U.S. Department of Commerce, Washington, DC 20230; telephone: (202) 482-0666.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department's regulations are to 19 CFR part 351 (1999).

Background

On January 26, 2000, the Department initiated an administrative review of the antidumping duty order on WSSP from Korea (65 FR 4228).

Scope of Review

The merchandise covered by this order consists of austenitic stainless steel pipe that meets the standards and specifications set forth by the American Society for Testing and Materials (ASTM) for the welded form of chromium-nickel pipe designated ASTM A-312. WSSP is produced by forming stainless steel flat-rolled products into a tubular configuration and welding along the seam. WSSP is a commodity product generally used as a conduit to transmit liquids or gases. Major applications for WSSP include, but are not limited to, digester lines, blow lines, pharmaceutical lines, petrochemical stock lines, brewery process and transport lines, general food processing lines, automotive paint lines and paper process machines. Imports of these products are currently classifiable under the following United States Harmonized Tariff Schedule (HTS) subheadings: 7306.40.5005, 7306.40.5015, 7306.40.5045, 7306.40.5060 and 7306.40.5075. Although these subheadings include both pipes and tubes, the scope of this order is limited to welded austenitic stainless steel pipes. Although HTS subheadings are provided for convenience and Customs purposes, the written description of the scope of this order remains dispositive.

Rescission of Review

Section 351.213(d)(1) of the Department's regulations allows the Department to rescind a review if the party that requested the review withdraws the request within 90 days of the publication date of the initiation notice. The Department published the initiation notice on January 26, 2000 (65 FR 4228). SeAH withdrew its request on January 31, 2000. SeAH was the only party to request a review for this period of the proceeding. Therefore, in accordance with section 351.213(d)(1), we are rescinding this review. We will instruct customs to liquidate the entries made during the POR at the rate entered.

We are publishing this notice in accordance with section 351.213(d)(4) of our regulations.

Dated: August 3, 2000.
Richard O. Weible,
Acting Deputy Assistant Secretary, AD/CVD Enforcement Group III.

[FR Doc. 00-20332 Filed 8-9-00; 8:45 am]

BILLING CODE 3510-DS-P